DEPARTMENT OF COMMERCE

Census Bureau

Agency Information Collection Activities; Submission to the Office of Management and Budget (OMB) for Review and Approval; Comment Request; Current Population Survey (CPS) 2025 Field Test

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection, Current Population Survey (CPS) 2025 Field Test, prior to the submission of the information collection request (ICR) to OMB for approval.

DATES: To ensure consideration, comments regarding this proposed information collection must be received on or before November 29, 2024.

ADDRESSES: Interested persons are invited to submit written comments by email to Kyra Linse, Survey Director, Current Population Surveys via the internet at dsd.cps@census.gov. Please reference Current Population Survey (CPS) 2025 Field Test in the subject line of your comments. You may also submit comments, identified by Docket Number USBC-2024-0023, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Kyra Linse, Survey Director, Current Population Surveys via the internet at dsd.cps@census.gov, or by phone at 301-763-9280.

SUPPLEMENTARY INFORMATION:

I. Abstract

The Census Bureau plans to request clearance from the Office of Management and Budget (OMB) for the collection of information related to a field test of the Current Population Survey (CPS) in calendar year 2025.

The CPS has been the source of official government statistics on employment and unemployment since 1942. The Bureau of Labor Statistics (BLS) and the Census Bureau jointly sponsor the basic monthly survey. The Census Bureau also prepares and conducts all the field work. The CPS collects labor force information for the civilian noninstitutional population including employment status, number of hours worked, job search activities, earnings, duration of unemployment, and the industry and occupation classification of the job held the previous week. Data for the CPS are currently collected by Census field interviewers via in-person interviews or by telephone.

The 2025 Field Test's goal is to test the use of an internet self-response method to measure its success as a possible method of contact and interviewing with the goal of review accuracy, reporting, and representativeness. In addition, should it prove as a viable response method, the goal is to experiment with timing and contacts in order to refine procedures that best fit the needs of CPS. This is the first of two major field tests with the second in 2026, and an ultimate goal to phase in changes to the survey in 2027.

II. Method of Collection

The 2025 field test is planned for April 2025 until November 2025. The goal is to replicate the expected mode interaction of adding a self-response mode as close as possible to a production environment. The first interview will be conducted via computer-assisted person interview (CAPI) mode, and most cases will be followed up for three months with a mix of internet Self Response and CAPI follow-up based on the previous month's interview results and data reported. All cases will be in sample for four months. In addition, some cases will be put on hold for two months and then interviewed again in order to replicate the break in a normal CPS in a shorter interval. In addition, we will conduct experiments such as question wording, contact methods, and timing of mode switching in order to measure the best method to encourage response by internet mode and the best wording for accurate self-response reporting.

III. Data

OMB Control Number: 0607-XXXX.

Form Number(s): None.

Type of Review: Regular submission, New Information Collection Request.

Affected Public: Households.

Estimated Number of Respondents: 50,000.

Estimated Time per Response: 10 minutes.

Estimated Total Annual Burden Hours: 33,333 hours.

Estimated Total Annual Cost to Public: $0.

Respondent's Obligation: Voluntary.

Legal Authority: Title 13 U.S.C. 8(b), 141, and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-22369 Filed 9-27-24; 8:45 am]

BILLING CODE 3510-07-P